DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: September 10, 2008, 11 a.m.-4 p.m., EST., September 11, 2008, 11 a.m.-4 p.m., EST.

Place: (Web Conference).

Status: The meeting will be open to the public; Web conference access limited only by availability of telephone ports.

Purpose: The Committee will be focusing on rural issues and how the Title VII Interdisciplinary, Community-Based Training Grant Programs identified under sections 751-756, Part D of the Public Health Service Act can respond to the current rural healthcare workforce needs. The Committee has invited speakers to highlight various topics related to rural healthcare workforce issues including, but not limited to, discipline specific shortages; recruitment and retention; health professions training; faculty development; telemedicine; and other specific rural health care issues. The meeting will afford committee members with the opportunity to identify and discuss the current status of the healthcare workforce in rural America and formulate appropriate recommendations to the Secretary and to the Congress regarding a variety of training strategies to address the health workforce shortage issues.

Agenda: The ACICBL agenda includes an overview of the Committee's general business activities, presentations by experts on rural healthcare workforce related issues, and discussion sessions specific for the development of recommendations to be addressed in the Eighth Annual ACICBL Report.

Agenda items are subject to change as dictated by the priorities of the Committee.

Supplementary Information: The ACICBL will meet on Wednesday, September 10 and Thursday, September 11, 2008 from 11 a.m. to 4 p.m. (EST) via Intercall LiveMeeting Web conference. To join online, click the link below. Once connected call the number below and use the same conference ID to be connected to the call. If you have not joined an Intercall LiveMeeting Web conference before, please log in 20 minutes before the meeting as you may need to install an Intercall reader to access the Web conference.

Meeting Link: https://psa.on.raindance.com/confmgr/public_unsched.jsp?confId=7829159.

Meeting Phone #: (888) 272-7337.

Conference ID: 7829159.

Meeting Subject: HRSA Advisory Committee on Interdisciplinary, Community-Based Linkages (ACICBL).

Moderator: Ashley Golden

Moderator E-mail: a_golden@team-psa.com.

For Further Information Contact: Anyone requesting information regarding the Committee should contact Louis D. Coccodrilli, Designated Federal Official for the ACICBL, Bureau of Health Professions, Health Resources and Services Administration, Parklawn Building, Rm. 9-36, 5600 Fishers Lane, Rockville, Maryland 20857; (301) 443-6950 or lcoccodrilli@hrsa.gov. Marie Ulysse, HRSA Scholar, can also be contacted for inquiries at (301) 443-6529 or mulysse@hrsa.gov.

Dated: August 4, 2008.
Alexandra Huttinger,
Director, Division of Policy Review and Coordination.

[FR Doc. E8-18393 Filed 8-8-08; 8:45 am]

BILLING CODE 4165-15-P